DEPARTMENT OF HOMELAND SECURITY

Coast Guard

33 CFR Part 117

[Docket No. USCG-2011-0529]

Drawbridge Operation Regulation; Delaware River, Between Burlington, NJ and Bristol, PA

AGENCY: Coast Guard, DHS.

ACTION: Notice of temporary deviation from regulations.

SUMMARY: The Commander, Fifth Coast Guard District has issued a temporary deviation from the regulations governing the operation of the Burlington-Bristol Bridge on Route 413, across the Delaware River, at mile 117.8, between Burlington, NJ and Bristol, PA. The deviation restricts the operation of the draw span in order to facilitate the replacement of the operating lift cables.

DATES: This deviation is effective from 12:01 a.m. July 9, 2011, until 11:59 p.m. July 22, 2011.

ADDRESSES: Documents mentioned in this preamble as being available in the docket are part of docket USCG-2011-0529 and are available online by going to http://www.regulations.gov, inserting USCG-2011-0529 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Terrance Knowles, Environmental Protection Specialist, Fifth Coast Guard District, at telephone 757-398-6587, e-mail Terrance.A.Knowles@uscg.mil. If you have questions on viewing the docket, call Renee V. Wright, Program Manager, Docket Operations, telephone 202-366-9826.

SUPPLEMENTARY INFORMATION: The Burlington County Bridge Commission, who owns and operates this vertical-lift type drawbridge, has requested a temporary deviation from the current operating regulations set out in 33 CFR 117.5 and 117.716(b) to facilitate the replacement of the lift cables.

The Burlington-Bristol Bridge on Route 413, at mile 117.8, across the Delaware River, between Burlington NJ and Bristol PA, has a vertical clearance in the closed position to vessels of 62 feet above mean high water.

Under the regular operating schedule the bridge opens on signal as required by 33 CFR 117.5 and the opening of a bridge may not be delayed more than five minutes for a highway bridge, after the signal to open is given as required by 33 CFR 117.716(b).

Under this temporary deviation, beginning 12:01 a.m. on Saturday July 9, 2011 and ending at 11:59 p.m. on Friday July 22, 2011, the Burlington-Bristol Bridge will be closed to vessels and unable to open on signal.

Vessels that can pass under the bridge without a drawbridge opening may do so at all times. A barge/crane, involved in the maintenance operation, will be located near the center of the channel, adjacent to the bridge, reducing the horizontal clearance of the waterway to approximately 200 feet. on either side of the barge/crane. Vessels able to pass under the closed span in conjunction with this horizontal clearance may do so at any time. There are no alternate routes for vessels transiting this section of the Delaware River.

There are approximately four to six vessels per week from four facilities whose vertical clearance surpasses the closed bridge position, requiring an opening of the draw span. The Coast Guard has coordinated this replacement work with the Mariners Advisory Committee for Bay & River Delaware, and will inform the other users of the waterway through our Local and Broadcast Notices to Mariners of the closure periods for the bridge so that vessels can arrange their transits to minimize any impact caused by the temporary deviation. The bridge will not be able to open in an emergency due to the lift cables being removed.

In accordance with 33 CFR 117.35(e), the drawbridge must return to its regular operating schedule immediately at the end of the designated time period. This deviation from the operating regulations is authorized under 33 CFR 117.35.

Dated: June 15, 2011.
Waverly W. Gregory, Jr.,
Bridge Program Manager, By direction of the Commander, Fifth Coast Guard District.

[FR Doc. 2011-15803 Filed 6-23-11; 8:45 am]

BILLING CODE 4910-15-P